DEPARTMENT OF ENERGY

Federal Energy Regulatory Commission

[Docket No. RP03-303-000]

Boundary Gas, Inc.; Notice of Proposed Changes in FERC Gas Tariff

March 19, 2003.

Take notice that on March 13, 2003, Boundary Gas, Inc. (Boundary) tendered for filing as part of its FERC Gas Tariff, Second Revised Volume No. 1, Second Revised Sheet No. 1 to become effective January 15, 2003.

Boundary states that the purpose of this filing is to cancel Boundary's tariff to reflect the fact that the Phase 2 Gas Sales Agreement (Sales Agreement), which is incorporated into Boundary's tariff, terminated in accordance with its terms on January 15, 2003, and none of Boundary's current customers have chosen to receive service from Boundary after January 15, 2003. Concurrently with this filing, Boundary is also filing an application to abandon service as of January 15, 2003.

Pursuant to 18 CFR 154.207 and 154.602, Boundary requests a waiver of the notice requirements for such tariff filings in order to make this tariff sheet effective retroactively on January 15, 2003, the date that the Sales Agreement terminated.

Boundary states that copies of this filing were served upon each of Boundary's customers and the state commissions in Connecticut, Massachusetts, New Hampshire, New Jersey, New York and Rhode Island.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 25, 2003.

Magalie R. Salas,
Secretary.

[FR Doc. 03-7218 Filed 3-25-03; 8:45 am]

BILLING CODE 6717-01-P